DEPARTMENT OF STATE

22 CFR Part 123

Licenses for the Export of Defense Articles

CFR Correction

In Title 22 of the Code of Federal Regulations, Parts 1 to 299, revised as of April 1, 2002, on page 447, the authority citation for part 123 is revised to read as follows:

Authority: Secs. 2, 38, and 71, Pub. L. 90-629, 90 Stat. 744 (22 U.S.C. 2752, 2778, 2797); 22 U.S.C. 2753; E.O. 11958, 42 FR 4311; 3 CFR, 1977 Comp. p. 79; 22 U.S.C. 2658; Pub. L. 105-261, 112 Stat. 1920.

[FR Doc. 03-55503 Filed 2-7-03; 8:45 am]

BILLING CODE 1505-01-D